DEPARTMENT OF HOMELAND SECURITY

[Docket No. DHS-2019-0015]

Privacy Act of 1974; Computer Matching Program

AGENCY: U.S. Citizenship and Immigration Services, Department of Homeland Security.

ACTION: Notice of a re-established matching program.

SUMMARY: Pursuant to the Privacy Act of 1974, as amended by the Computer Matching and Privacy Protection Act of 1988 and the Computer Matching and Privacy Protections Amendment of 1990 (Privacy Act), and Office of Management and Budget (OMB) guidance on the conduct of matching programs, notice is hereby given of the re-establishment of a matching program between the Department of Homeland Security (DHS), U.S. Citizenship and Immigration Services (USCIS), and the New Jersey Department of Labor and Workforce Development (NJ-LWD). NJ-LWD will match against DHS-USCIS data to verify the immigration status of non-U.S. citizens who apply for federal benefits (Benefit Applicants) under Unemployment Compensation (UC) programs that NJ-LWD administers to determine whether Benefit Applicants possess the requisite immigration status to be eligible for the UC it administers.

DATES: Please submit comments on the proposal by June 17, 2019. The matching program will be effective on June 17, 2019 unless comments have been received from interested members of the public that require modification and republication of the notice. The matching program will continue for 18 months from the beginning date and may be extended an additional 12 months if the conditions specified in 5 U.S.C. 552a(o)(2)(D) have been met.

ADDRESSES: You may submit comments, identified by docket number DHS-2019-0015 by one of the following methods:

• Federal e-Rulemaking Portal: http://www.regulations.gov. Follow the instructions for submitting comments.

• Fax: 202-343-4010.

• Mail: Jonathan R. Cantor, Acting Chief Privacy Officer, Privacy Office, Department of Homeland Security, Washington, DC 20528-0655.

Instructions: All submissions received must include the agency name and docket number DHS 2019-0015. All comments received will be posted without change to http://www.regulations.gov, including any personal information provided.

Docket: For access to the docket to read background documents or comments received, go to http://www.regulations.gov.

FOR FURTHER INFORMATION CONTACT: For general questions about this matching program or obtain additional information about the program, including requesting a copy of the Computer Matching Agreement between DHS-USCIS and NJ-LWD, please contact Jonathan M. Mills, Acting Chief, USCIS SAVE Program at (202) 306-9874. For privacy questions, please contact Jonathan R. Cantor, (202) 343-1717, Acting Chief Privacy Officer, Department of Homeland Security, Washington, DC 20528-0655.

SUPPLEMENTARY INFORMATION: DHS-USCIS provides this notice in accordance with the Privacy Act of 1974 (5 U.S.C. 552a), as amended by the Computer Matching and Privacy Protection Act of 1988 (Pub. L. 100-503) and the Computer Matching and Privacy Protection Amendments of 1990 (Pub. L. 101-508) (Privacy Act); Office of Management and Budget (OMB) Final Guidance Interpreting the Provisions of Public Law 100-503, the Computer Matching and Privacy Protection Act of 1988, 54 FR 25818 (June 19, 1989); and OMB Circular A-108, 81 FR 94424 (December 23, 2016).

Participating Agencies: DHS-USCIS and NJ-LWD.

Authority for Conducting the Matching Program: Section 121 of the Immigration Reform and Control Act (IRCA) of 1986, Public Law 99-603, as amended by the Personal Responsibility and Work Opportunity Reconciliation Act of 1996 (PRWORA), Public Law 104-193, 110 Stat. 2168 (1996), requires DHS to establish a system for the verification of immigration status of alien applicants for, or recipients of, certain types of benefits as specified within IRCA, and to make this system available to state agencies that administer such benefits. The Illegal Immigration Reform and Immigrant Responsibility Act of 1996 (IIRIRA), Public Law 104-208, 110 State. 3009 (1996) grants federal, state or local government agencies seeking to verify or ascertain the citizenship or immigration status of any individual within the jurisdiction of the agency with the authority to request such information from DHS-USCIS for any purpose authorized by law.

Purpose: The purpose of this Agreement is to re-establish the terms and conditions governing NJ-LWD's access to, and use of, the DHS-USCIS Systematic Alien Verification for Entitlements (SAVE) Program, which provides immigration status information from federal immigration records to authorized users. NJ-LWD will use the SAVE Program to verify the immigration status of non U.S. citizens who apply for federal benefits (Benefit Applicants) under Unemployment Compensation (UC) programs that it administers. NJ-LWD will use the information obtained through the SAVE Program to determine whether Benefit Applicants possess the requisite immigration status to be eligible for the UC benefits administered by NJ-LWD.

Categories of Individuals: The individuals about whom DHS-USCIS maintains information, which is contained in its Verification Information System (VIS) database used by the SAVE Program to verify immigration status, that are involved in this matching program include aliens, those naturalized, and to the extent those that have applied for Certificates of Citizenship, derived U.S. citizens, on whom DHS-USCIS has a record as an applicant, petitioner, sponsor, or beneficiary. The individuals about whom NJ-LWD maintains information that is involved in this matching program include non-citizen Benefit Applicants for, or recipients of, UC administered by NJ-LWD.

Categories of Records: The categories of records involved in the data match from NJ-LWD records include information about those individuals who have applied for or are eligible for Unemployment Compensation (UC) administered by NJ-LWD. Specifically, data elements may include: Alien Registration Number (also referred to as USCIS Number); I-94 Number; Full name; Date of Birth; Nationality; and U.S. Social Security number. Data elements contained within DHS-USCIS's records to be matched with the NJ-LWD data may consist of the following: Alien Registration Number; Full name; Country of Birth (not nationality); U.S. Social Security number (if available); Date of Entry; Immigration Status Data; and Sponsorship Data. For those individuals for whom DHS-USCIS has a record that matches a record in NJ-LWD's holdings, DHS-USCIS will provide NJ-LWD the following information: Alien Registration Number; Full name; Date of Birth; Country of Birth (not nationality); Date of Entry; Additional biographical data; Immigration Status Data; and Employment Eligibility Data.

System of Records: DHS/USCIS-004 Systematic Alien Verification for Entitlements (SAVE) System of Records Notice, 81 FR 78619 (Nov. 8, 2016).

Jonathan R. Cantor,
Acting Chief Privacy Officer, Department of Homeland Security.

[FR Doc. 2019-10209 Filed 5-16-19; 8:45 am]

BILLING CODE 9110-9L-P